DEPARTMENT OF TRANSPORTATION

Federal Aviation Administration (FAA)

Notice of Opportunity for Public Comment on Non-Rule Making Action To Change Land Use From Aeronautical to Non-Aeronautical at Mobile Downtown Airport, Mobile, Alabama

AGENCY: Federal Aviation Administration (FAA), DOT.

ACTION: Notice.

SUMMARY: Under the provisions of Title 49, U.S.C. Section 47153(c), notice is being given that the FAA is considering a request from the Mobile Airport Authority to waive the requirement that a 72.13 acre parcel of surplus property, located on Mobile Downtown Airport, be used for aeronautical purposes.

DATES: Comments must be received on or before April 15, 2013.

ADDRESSES: Comments on this notice may be mailed or delivered in triplicate to the FAA at the following address: Jackson Airports District Office, Attn: William Schuller, Program Manager, 100 West Cross Street, Suite B, Jackson, MS 39208-2307.

In addition, one copy of any comments submitted to the FAA must be mailed or delivered to Thomas Hughes, Director of Aviation, Mobile Airport Authority at the following address: P.O. Box 88004, Mobile, AL 36608-0004.

FOR FURTHER INFORMATION CONTACT: William Schuller, Program Manager, Jackson Airports District Office, 100 West Cross Street, Suite B, Jackson, MS 39208-2307, (601)664-9883. The application may be reviewed in person at this same location.

SUPPLEMENTARY INFORMATION: The FAA is reviewing an update to the Mobile Downtown Airport layout plan submitted by the Mobile Airport Authority. The airport layout plan update, if approved, would change the land use on 72.13 acres from aeronautical to non-aeronautical. The property will then be leased for Commercial Development. The location of the land relative to existing or anticipated aircraft noise contours greater than 65ldn are not considered to be an issue. The proceeds from the lease of this property will be used for airport purposes. The proposed use of this property is compatible with airport operations.

Any person may inspect the request in person at the FAA office listed above under FOR FURTHER INFORMATION CONTACT.

In addition, any person may, upon request, inspect the request, notice and other documents germane to the request in person at the Mobile Downtown Airport.

Issued in Jackson, Mississippi, on March 7, 2013.
Rans D. Black,
Manager, Jackson Airports District Office, Southern Region.

[FR Doc. 2013-06048 Filed 3-14-13; 8:45 am]

BILLING CODE 4910-13-P